DEPARTMENT OF JUSTICE

Drug Enforcement Administration

Manufacturer of Controlled Substances; Notice of Application

Pursuant to section 1301.33(a) of Title 21 of the Code of Federal Regulations (CFR), this is notice that on September 11, 2001, Genesis 1:29 Corporation, P.O. Box 2175, 133 Bond Avenue, Petaluma, California 94654, made application to the Drug Enforcement Administration (DEA) for registration as a bulk manufacturer of the basis classes of controlled substances listed below:

Drug | Schedule
Marihuana (7360) | I
Tetrahydrocannabinols (7370) | I

The firm plans to cultivate marihuana to supply physician's patients within the State of California.

This Notice of Application is being published as required pursuant to section 1301.33(a) of Title 21 CFR and does not authorize the applicant to manufacturer, distribute or possess any controlled substance.

Since Marihuana is a Schedule I controlled substance identified in section 1308.11(d) of Title 21 CFR and has no legitimate medical use, the DEA intends to take all appropriate measures necessary to comply with domestic and international treaty obligations.

Any other such applicant and any person who is presently registered with DEA to manufacture such substance may file comments or objections to the issuance of the proposed registration.

Any such comments or objections may be addressed, in quintuplicate, to the Deputy Assistant Administrator, Office of Diversion Control, Drug Enforcement Administration, United States Department of Justice, Washington, DC 20537, Attention: DEA Federal Register Representative (CCR), and must be filed no later than February 19, 2002.

Dated: December 13, 2001.
Laura M. Nagel,
Deputy Assistant Administrator, Office of Diversion Control, Drug Enforcement Administration.

[FR Doc. 01-31409 Filed 12-20-01; 8:45 am]

BILLING CODE 4410-09-M